GENERAL SERVICES ADMINISTRATION

41 CFR Part 102-118

[FMR Amendment 2008-04; FMR Case 2007-102-4; Docket 2008-0001; Sequence 1]

RIN 3090-AI41

Federal Management Regulation; FMR Case 2007-102-4, Transportation Payment and Audit; Refund of Expired, Unused Tickets

AGENCY: Office of Governmentwide Policy, General Services Administration (GSA).

ACTION: Interim final rule.

SUMMARY: The General Services Administration is amending the Federal Management Regulation (FMR) pertaining to unused tickets. The section is being deleted that was published without a public comment period.

DATES: This final rule is effective on: February 20, 2008.

FOR FURTHER INFORMATION CONTACT: For clarification of content, contact Mr. Ted J. Bembenek, Jr., at (202) 208-7629. The Regulatory Secretariat, Room 4035, GS Building, Washington, DC 20405, (202) 501-4755, for information pertaining to status or publication schedules. Please cite FMR Case 2007-102-4, Amendment 2008-04.

SUPPLEMENTARY INFORMATION:

A. Background

GSA published § 102-118.196 in the Federal Register at 69 FR 57619, September 24, 2004, as an addition to part 118 of Title 41 (41 CFR part 118). The amendment was published as a final rule without a comment period and required that Transportation Service Providers (TSPs) refund the value of expired, unused tickets to GSA's Audit Division when a ticket purchasing agency fails to notify the TSP of a cancellation.

Since its publication, GSA has received feedback from sources who wanted to offer comments at the time the rule was originally published. After receipt of contacts from these sources, GSA agreed to remove this specific provision in its current form.

In order to accomplish this, it is necessary to remove the existing provision, and this FMR does so.

B. Executive Order 12866

This regulation is excepted from the definition of “regulation” or “rule” under Section 3(d)(3) of Executive Order 12866, Regulatory Planning and Review, dated September 30, 1993 and, therefore, was not subject to review under Section 6(b) of that Executive Order.

C. Regulatory Flexibility Act

This final rule is not required to be published in the Federal Register for notice and comment as per the exemption specified in 5 U.S.C. 553(a)(2); therefore, the Regulatory Flexibility Act, 5 U.S.C. 601, et seq., does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Part 102-118

Accounting, Claims, Reporting and recordkeeping requirements, Transportation.

Dated: October 22, 2007.
Lurita Doan,
Administrator of General Services.

For the reasons set forth in the preamble, GSA amends 41 CFR part 102-118 as set forth below:

PART 102-118—TRANSPORTATION PAYMENT AND AUDIT

1. The authority citation for 41 CFR part 102-118 continues to read as follows:

Authority: 31 U.S.C. 3726; and 40 U.S.C. 121(c), and 49 U.S.C. 10721, 13712, and 15504.

§ 102-118.196 [Removed]

2. Remove § 102-118.196.

[FR Doc. E8-3101 Filed 2-19-08; 8:45 am]

BILLING CODE 6820-14-P